DEPARTMENT OF COMMERCE

Foreign-Trade Zones Board

[S-112-2024]

Foreign-Trade Zone 214; Application for Subzone Expansion; Conolidated Diesel Company; Whitakers, North Carolina

An application has been submitted to the Foreign-Trade Zones (FTZ) Board by the North Carolina Department of Transportation, grantee of FTZ 214, requesting an expansion of Subzone 214A on behalf of Consolidated Diesel Company (Consolidated Diesel), located in Whitakers, North Carolina. The application was submitted pursuant to the provisions of the Foreign-Trade Zones Act, as amended (19 U.S.C. 81a-81u), and the regulations of the FTZ Board (15 CFR part 400). It was formally docketed on July 1, 2024.

The application requests authority to expand Subzone 214A to include the following new site: Site 5 (0.5 acres)—7111 US 301, Whitaker. No authorization for additional production activity has been requested at this time. The proposed expanded subzone would be subject to the existing activation limit of FTZ 214.

In accordance with the FTZ Board's regulations, Christopher Kemp of the FTZ Staff is designated examiner to review the application and make recommendations to the Executive Secretary.

Public comment is invited from interested parties. Submissions shall be addressed to the FTZ Board's Executive Secretary and sent to: ftz@trade.gov. The closing period for their receipt is August 19, 2024. Rebuttal comments in response to material submitted during the foregoing period may be submitted during the subsequent 15-day period to September 3, 2024.

A copy of the application will be available for public inspection in the “Online FTZ Information Section” section of the FTZ Board's website, which is accessible via www.trade.gov/ftz.

For further information, contact Christopher Kemp at Christopher.Kemp@trade.gov.

Dated: July 1, 2024.
Elizabeth Whiteman,
Executive Secretary.

[FR Doc. 2024-14792 Filed 7-5-24; 8:45 am]

BILLING CODE 3510-DS-P